DEPARTMENT OF THE INTERIOR

Bureau of Land Management

[AK-910-1410-PG]

Alaska Resource Advisory Council Meeting

AGENCY: Bureau of Land Management, Interior.

ACTION: Notice of Alaska Resource Advisory Council Meeting.

SUMMARY: The BLM Alaska Resource Advisory Council will conduct an open meeting Monday, October 29, 2001, from 9 a.m. until 4 p.m. and Tuesday, October 30, 2001, from 8:30 a.m. until noon. The meeting will be held in the Anchorage Federal Building at 7th and C Street in BLM offices in the fourth floor.

Primary agenda items for this meeting will include orientation for new members and an overview of the council's July 2001 North Slope field tour. The council will hear public comments Monday, October 29, 2001, from 1-2 p.m. Written comments may be mailed to BLM at the address below.

ADDRESSES: Inquiries or comments should be sent to BLM External Affairs, 222 W. 7th Avenue, #13, Anchorage, AK 99513-7599.

FOR FURTHER INFORMATION CONTACT: Teresa McPherson, 907-271-3322, or via e-mail to teresa_mcpherson@ak.blm.gov.

Linda S.C. Rundell,
Associate State Director.

[FR Doc. 01-25175 Filed 10-5-01; 8:45 am]

BILLING CODE 4310-JA-P